DEPARTMENT OF AGRICULTURE

Food and Nutrition Service

Agency Information Collection Activities: Proposed Collection; Comment Request—Nutrition Assistance in Farmers' Markets: Understanding Current Operations

AGENCY: Food and Nutrition Service (FNS), United States Department of Agriculture (USDA).

ACTION: Notice.

SUMMARY: In accordance with the Paperwork Reduction Act of 1995, this notice invites the general public and other public agencies to comment on this proposed information collection. This collection is a new collection for the Food and Nutrition Service to examine how nutrition assistance programs are currently being implemented in the diverse operational contexts of farmers' markets and identify facilitators and barriers for farmers' markets' participation in the Supplemental Nutrition Assistance Program (SNAP).

DATES: Written comments must be received on or before May 23, 2011.

ADDRESSES: Comments are invited on: (a) Whether the proposed collection of information is necessary for the proper performance of the functions of the agency, including whether the information shall have practical utility; (b) the accuracy of the agency's estimate of the burden of the proposed collection of information, including the validity of the methodology and assumptions that were used; and (c) ways to enhance the quality, utility, and clarity of the information to be collected.

Comments may be sent to: Steven Carlson, Office of Research and Analysis, Food and Nutrition Service/USDA, 3101 Park Center Drive, Room 1014, Alexandria, VA 22302. Comments may also be submitted via fax to the attention of Steven Carlson at 703-305-2576 or via e-mail to Steve.Carlson@fns.usda.gov. Comments will also be accepted through the Federal eRulemaking Portal. Go to http://www.regulations.gov, and follow the online instructions for submitting comments electronically.

All written comments will be open for public inspection at the Office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION:

Title: Nutrition Assistance in Farmers Markets: Understanding Current Operations.

OMB Number: 0584-NEW.

Expiration Date of Approval: Not yet determined.

Type of Request: New collection.

Abstract: The USDA, Food and Nutrition Service (FNS), is pursuing several initiatives to improve access to healthy foods among the general public and nutrition assistance program participants. Among these are steps to support the availability of farmers' markets and direct access to farm products. FNS' overall objective is to promote direct-to-consumer agriculture through farmers' markets and provide more opportunities for nutrition assistance program participants to take advantage of this source of fresh produce. In order to meet this objective, FNS needs to understand how the federal nutrition assistance programs operate in the diverse settings represented by farmers' markets and the factors that influence farmers' markets to participate in nutrition assistance programs. To this end, FNS is conducting a survey with a representative sample of farmers' markets from four strata that are of particular interest to FNS:

1. SNAP authorized farmers' markets that redeemed benefits during the 2010 season;

2. SNAP authorized farmers' markets that did not redeem benefits during the 2010 season;

3. Farmers' markets SNAP-authorized for one or more of the 2006 to 2009 seasons, but not authorized in 2010; and

4. Farmers' markets that have never been authorized to redeem SNAP benefits.

The data collection activities to be undertaken subject to this notice include:

• The survey will be administered to farmers' market managers represented in the four categories of farmers markets above. Data collection will occur either by mail, web or phone depending on the preference of the market manager.

• To supplement the survey data, four focus groups will be conducted with SNAP recipients to provide consumer perspectives on farmers' market operations. Two groups will be conducted with recipients that are current farmers' market shoppers, and two groups will be conducted with recipients that are not farmers' market shoppers.

Affected Public: Respondent groups identified include: (1) Business-for-profit (Farmers' Market Managers) and (2) Individuals/Households (SNAP recipients).

Estimated Number of Respondents: The total estimated number of respondents is 2636. This includes 2544 Farmers' Market Managers (80% who will complete interviews); 92 SNAP recipients (32 will participate in the focus group discussions).

Estimated Number of Responses per Respondent: Farmers' market managers will complete the survey one time. SNAP recipients will complete the focus group once.

Estimated Total Annual Responses: 2636.

Estimated time per Response: Farmers' market managers working in SNAP-authorized farmers' markets in 2010 or previously SNAP-authorized farmers' markets will take approximately 25 minutes (0.4167 hours) to complete the survey. Farmers' market managers working in never SNAP-authorized farmers' markets will take approximately 20 minutes (0.3333 hours) to complete the survey. Each SNAP recipient will participate in the focus group discussion for approximately 2 hours.

Estimated Total Annual Burden on Respondents: 829 hours.

Respondent | Estimated annualized burden hours: Number of respondents | Estimated annualized burden hours: Number of responses per respondent | Estimated annualized burden hours: Estimated total annual responses | Estimated annualized burden hours: Average burden per response (in hours) | Estimated annualized burden hours: Total burden (in hours)
Farmers' Market Manager Survey
SNAP FMs-with benefits redeemed in 2010:
Completed | 567 | 1 | 567 | .4167 | 236.27
Attempted | 142 | 1 | 142 | .0167 | 2.37
SNAP FMs-without benefits redeemed in 2010:
Completed | 319 | 1 | 319 | .4167 | 132.93
Attempted | 79 | 1 | 79 | .0167 | 1.32
SNAP-authorized FMs previously not in 2010:
Completed | 299 | 1 | 299 | .3333 | 99.66
Attempted | 75 | 1 | 75 | .0167 | 1.25
Never SNAP-authorized FMs:
Completed | 851 | 1 | 851 | .3333 | 283.64
Attempted | 212 | 1 | 212 | .0167 | 3.54
Survey Total | 2544 |  | 2544 |  | 760.98
Focus Groups with SNAP Recipients
Recruitment Screener:
Completed | 40 | 1 | 40 | .0835 | 3.34
Attempted | 20 | 1 | 20 | .0334 | 0.67
Focus Group discussion:
Completed | 32 | 1 | 32 | 2 | 64
Attempted | 0 | 1 | 0 |  |
Focus Group Total | 92 |  | 92 |  | 68
TOTAL | 2636 |  |  |  | 828.98

Dated: March 18, 2011.
Julia Paradis,
Administrator, Food and Nutrition Service.

[FR Doc. 2011-6896 Filed 3-22-11; 8:45 am]

BILLING CODE 3410-30-P